DEPARTMENT OF ENERGY

Federal Energy Regulatory Commission

[Project No. 15094-002]

Ohio Power and Light, LLC; Notice of Revised Procedural Schedule

Take notice that the schedule for processing the proposed Robert C. Byrd Locks and Dam Hydroelectric Project No. 15094 final license application has been updated. Subsequent revisions to the schedule may be made as appropriate.

Milestone | Target date
Issue Deficiency Letter (if necessary) | April 2025.
Request Additional Information | April 2025.
Issue Acceptance Letter | August 2025.
Issue Scoping Document 1 for comments | September 2025.
Issue Scoping Document 2 (if necessary) | November 2025.
Issue Notice of Ready for Environmental Analysis | November 2025.

Dated: March 27, 2025.
Debbie-Anne A. Reese,
Secretary.

[FR Doc. 2025-05705 Filed 4-2-25; 8:45 am]

BILLING CODE 6717-01-P